ENVIRONMENTAL PROTECTION AGENCY

[FRL-8234-2]

Agency Information Collection Activities OMB Responses

AGENCY: Environmental Protection Agency (EPA).

ACTION: Notice.

SUMMARY: This document announces the Office of Management and Budget's (OMB) response to Agency Clearance requests, in compliance with the Paperwork Reduction Act (44 U.S.C. 3501 et. seq). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 2032.04; NESHAP for Hydrochloric Acid Production; in 40 CFR part 63, subpart NNNNN; was approved 09/06/2006; OMB number 2060-0529; expires 09/30/2009.

EPA ICR No. 2034.03; NESHAP for Wood Products Surface Coating Industry (Renewal); in 40 CFR part 63, subpart QQQQ; was approved 09/06/2006; OMB Number 2060-0510; expires 09/30/2009.

EPA ICR No. 1952.03; NESHAP for Metal Furniture Surface Coating (Renewal); in 40 CFR part 63, subpart RRRR; was approved 09/06/2006; OMB Number 2060-0518; expires 09/30/2009.

EPA ICR No. 1894.05; NESHAP for Secondary Aluminum Production (Renewal); in 40 CFR part 63, subpart RRR; was approved 09/06/2006; OMB number 2060-0433; expires 09/30/2009.

EPA ICR No. 0633.09; NSPS for Beverage Can Surface Coating (Renewal); in 40 CFR part 60, subpart WW; was approved 10/03/2006; OMB Number 2060-0001; expires 10/31/2009.

EPA ICR No. 0794.11; Notification of Substantial Risk of Injury to Health and the Environment under TSCA Sec. 8(e); was approved 10/02/2006; OMB Number 2070-0046; expires 10/31/2009.

EPA ICR No. 0649.09; NSPS for Metal Furniture Coating (Renewal); in 40 CFR part 60, subpart EE; was approved 10/02/2006; OMB Number 2060-0106; expires 10/31/2009.

EPA ICR No. 2177.02; Standards of Performance for Stationary Combustion Turbines (Final Rule); in 40 CFR part 60, subpart KKKK; was approved 10/02/2006; OMB Number 2060-0582; expires 10/31/2009.

EPA ICR No. 1934 .03; National Primary Drinking Water Regulations: Ground Water Rule (Final Rule); in 40 CFR 141.400-406; 40 CFR 142.14-16; OMB Number 2040-0271; was approved 10/11/2006; expires 10/31/2009.

EPA ICR No. 2244.01; Reducing the State Reporting Burden and Streamlining Measures; was approved 10/11/2006; OMB Number 2090-0027; expires 04/30/2007.

EPA ICR No. 0659.10; NSPS for Surface Coating of Large Appliances; in 40 CFR part 60, subpart SS; was approved 10/10/2006; OMB Number 2060-0108; expires 10/31/2009.

EPA ICR No. 2088.02; Reporting and Recordkeeping Requirements under EPA's Hospitals for a Healthy Environment (H2E) Program; was approved 10/10/2006; OMB Number 2070-0166; expires 10/31/2009.

Comment Filed

EPA ICR No. 1230.13; Information Collection Request for Proposed Rule for Review of New Sources and Modifications in Indian Country; in 40 CFR part 49 and 51; OMB Number 2060-0003; OMB filed comments on 09/27/2006.

EPA ICR No. 1975.03; Additional Reporting and Recordkeeeping Requirements for NESHAP for Stationary Reciprocating Internal Combustion Engines (Proposed Rule); in 40 CFR part 63, subpart ZZZZ; OMB Number 2060-0548; OMB filed comments on 09/06/2006.

Dated: October 16, 2006.
Oscar Morales,
Director, Collection Strategies Division.

[FR Doc. E6-17876 Filed 10-24-06; 8:45 am]

BILLING CODE 6560-50-P